DEPARTMENT OF ENERGY

Federal Energy Regulatory Commission

[Docket No. CP24-75-001; Docket No. CP25-505-000; Docket No. CP25-506-000]

Sabine Pass Liquefaction, L.L.C.; Sabine Pass Liquefaction Stage V, L.L.C.; Sabine Crossing, L.L.C.; Cheniere Creole Trail Pipeline, L.P.; Notice of Intent To Prepare an Environmental Impact Statement for the Proposed Sabine Pass Stage 5 Expansion Project, Request for Comments on Environmental Issues, and Schedule for Environmental Review

The staff of the Federal Energy Regulatory Commission (FERC or Commission) will prepare an environmental impact statement (EIS) that will discuss the environmental impacts of the Sabine Pass Stage 5 Expansion Project, (Project) involving construction and operation of facilities by Sabine Pass Liquefaction, L.L.C., Sabine Pass Liquefaction Stage V, L.L.C., Sabine Crossing, L.L.C., and Cheniere Creole Trail Pipeline, L.P. (the Applicants) in Cameron, Beauregard, and Calcasieu Parishes, Louisiana; and Liberty, Jefferson, and Chambers Counties, Texas.¹ The Commission will use this environmental document in its decision-making process to determine whether the planned pipeline project is in the public convenience and necessity and if the planned liquified natural gas facility expansion is in the public interest. The schedule for preparation of the EIS is discussed in the Schedule for Environmental Review section of this notice.

¹ For tracking purposes under the National Environmental Policy Act, the unique identification number for documents relating to this environmental review is EISX-019-20-000-1751972136.

As part of the National Environmental Policy Act (NEPA) review process, the Commission takes into account concerns the public may have about proposals and the environmental impacts that could result whenever it considers the issuance of a Certificate of Public Convenience and Necessity and authorization. This gathering of public input is referred to as “scoping.” By notices issued on October 6, 2023 and August 1, 2024 in Docket No. PF23-2-000, the Commission opened scoping periods during Sabine Pass Liquefaction, L.L.C., Sabine Pass Liquefaction Stage V, L.L.C. and Sabine Crossing, L.L.C.'s planning process for the Sabine Pass Liquefaction Stage 5 Expansion project and the Sabine Crossing Pipeline project and prior to filing a formal application with the Commission, a process referred to as “pre-filing.” The Applicants have now filed a joint application with the Commission, and staff intends to prepare an EIS that will address the concerns raised during the pre-filing scoping process and comments received in response to this notice.

By this notice, the Commission requests public comments on the scope of issues to address in the environmental document, including comments on potential alternatives and impacts, and any relevant information, studies, or analyses of any kind concerning impacts affecting the quality of the human environment. To ensure that your comments are timely and properly recorded, please submit your comments so that the Commission receives them in Washington, DC on or before 5:00 p.m. Eastern Time on September 8, 2025. Comments may be submitted in written form. Further details on how to submit comments are provided in the Public Participation section of this notice.

As mentioned above, during the pre-filing process, the Commission opened scoping periods for the Sabine Pass Liquefaction Stage 5 Expansion project and the Sabine Crossing Pipeline project which expired on November 6, 2023, and September 3, 2024 respectively; however, Commission staff continued to accept comments during the entire pre-filing process. Staff also held scoping sessions to take oral scoping comments. Those sessions were held in Cameron, Louisiana on October 24, 2023; Port Arthur, Texas on October 25, 2023; and Winnie, Texas, on August 28, 2024. All substantive written and oral comments provided during pre-filing will be addressed in the EIS. Therefore, if you submitted comments on this Project to the Commission during the pre-filing process in Docket No. PF23-2-000 you do not need to file those comments again.

If you are a landowner receiving this notice, a pipeline company representative may contact you about the acquisition of an easement to construct, operate, and maintain the proposed facilities. The company would seek to negotiate a mutually acceptable easement agreement. You are not required to enter into an agreement. However, if the Commission approves the Project, the Natural Gas Act conveys the right of eminent domain to the company. Therefore, if you and the company do not reach an easement agreement, the pipeline company could initiate condemnation proceedings in court. In such instances, compensation would be determined by a judge in accordance with state law. The Commission does not grant, exercise, or oversee the exercise of eminent domain authority. The courts have exclusive authority to handle eminent domain cases; the Commission has no jurisdiction over these matters.

The Applicants provided landowners with a fact sheet prepared by the FERC entitled “An Interstate Natural Gas Facility On My Land? What Do I Need To Know?” which addresses typically asked questions, including the use of eminent domain and how to participate in the Commission's proceedings. This fact sheet along with other landowner topics of interest are available for viewing on the FERC website (www.ferc.gov) under the Natural Gas, Landowner Topics link.

Public Participation

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket numbers (CP24-75-001, CP25-505-000, and CP25-506-000) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

Additionally, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Summary of the Proposed Project, the Project Purpose and Need, and Expected Impacts

The Applicants propose to expand the existing Sabine Pass Liquefied Natural Gas (SPLNG) Terminal facility in Cameron Parish, Louisiana; construct and operate a new, 48-inch-diameter, 55.6-mile-long natural gas pipeline (Sabine Crossing Pipeline) in Liberty and Jefferson Counties, Texas, and into the SPLNG Terminal; and as part of the existing Creole Trail Pipeline System, construct and operate the new greenfield Tarpon Compressor Station in Cameron Parish, Louisiana, expand the existing Gillis Compressor Station in Beauregard Parish, Louisiana, and modify an existing delivery meter station in Cameron Parish, Louisiana. The Sabine Crossing Pipeline would deliver up to 2.7 billion cubic feet per day (Bcf/d) of natural gas to the SPLNG Terminal facility. The Tarpon Compressor Station would help deliver approximately 908 million standard cubic feet per day (MMscf/d) of natural gas to the SPLNG Terminal facility. According to the Applicants, the Project would expand the Applicants' liquified natural gas (LNG) production capabilities to meet immediate and future global demand for LNG.

The Project would consist of the following facilities:

SPLNG Terminal Expansion

• three Liquefaction Trains (Trains 7, 8 and 9) and appurtenant facilities; Sabine Crossing Pipeline

• approximately 55.6 miles of 48-inch-diameter pipeline;

• six-meter stations along the pipeline route;

• the new Hamshire Compressor Station along the pipeline route;

• four pig traps,² and three mainline valves along the pipeline route; Creole Trail Pipeline System

² A “pig” is a tool that the pipeline company inserts into and pushes through the pipeline for cleaning the pipeline, conducting internal inspections, or other purposes. A pig trap is an ancillary item of pipeline equipment, with associated pipework and valves, for introducing a pig into a pipeline or removing a pig from a pipeline.

• two 23,470-horsepower compressor packages and appurtenant facilities at the Gillis Compressor Station;

• one 52,500-horsepower modular compressor package and appurtenant facilities at the new Tarpon Compressor Station; and

• one new 16-inch-diameter meter and flow control run, and one new filter within an existing meter station.

The general location of the Project facilities is shown in appendix 1.³

³ The appendices referenced in this notice will not appear in the Federal Register. Copies of the appendices were sent to all those receiving this notice in the mail and are available at www.ferc.gov using the link called “eLibrary”. For instructions on connecting to eLibrary, refer to the last page of this notice. For assistance, contact FERC at FERCOnlineSupport@ferc.gov or call toll free, (886) 208-3676 or TTY (202) 502-8659.

Based on the environmental information provided by the Applicants, construction of the proposed facilities for the SPLNG Terminal Expansion would disturb about 263.5 acres of new land outside of the existing SPLNG facility, and operation of these facilities would maintain about 248.7 acres outside the existing SPLNG facility. Construction of facilities for the Sabine Crossing Pipeline would require about 1209.5 acres of land, while the operation of these facilities would require 431.5 acres of land. About 35.6 miles (64 percent) of the Sabine Crossing Pipeline would be collocated with existing pipelines. Construction of aboveground facilities along the Creole Trail Pipeline System would affect 54 acres during construction, including 6.1 acres of overlap with the existing SPLNG facility. Operation of the facilities for the Creole Trail Pipeline System would require 52.5 acres of land.

Based on an initial review of the Applicants' proposal and public comments received during the pre-filing process, Commission staff have identified several expected impacts that deserve attention in the EIS. The Project would affect 614 acres of wetlands during construction and would result in the loss of 91.9 acres of wetlands. It would also result in 52.3 tons of total hazardous air pollutant emissions.

The NEPA Process and the EIS

The EIS issued by the Commission will discuss impacts that could occur as a result of the construction and operation of the proposed Project under the relevant general resource areas:

• geology and soils;

• water resources and wetlands;

• vegetation and wildlife;

• threatened and endangered species;

• cultural resources;

• land use and socioeconomics;

• air quality and noise; and

• reliability and safety.

Commission staff will also make recommendations on how to lessen or avoid impacts on the various resource areas. Your comments will help Commission staff focus its analysis on the issues that may have a significant effect on the human environment.

The EIS will present Commission staff's independent analysis of the issues. The U.S. Army Corps of Engineers, U.S. Department of Transportation, U.S. Coast Guard, the National Oceanic and Atmospheric Administration—National Marine Fisheries Service, and the U.S. Department of Energy are cooperating agencies in the preparation of the EIS.⁴ Staff will prepare a draft EIS which will be issued for public comment. Commission staff will consider all timely comments received during the comment period on the draft EIS and revise the document, as necessary, before issuing a final EIS. Any draft and final EIS will be available in electronic format in the public record through eLibrary ⁵ and the Commission's natural gas environmental documents web page (https://www.ferc.gov/industries-data/natural-gas/environment/environmental-documents). If eSubscribed, you will receive instant email notification when the environmental document is issued.

⁴ Cooperating agency responsibilities are addressed in Section 107(a)(3) of NEPA (42 U.S.C. 4336(a)(3)).

⁵ For instructions on connecting to eLibrary, refer to the last page of this notice.

Alternatives Under Consideration

The EIS will evaluate reasonable alternatives that are technically and economically feasible and meet the purpose and need for the proposed action. Alternatives currently under consideration include:

• the no-action alternative, meaning the Project is not implemented;

• LNG terminal site alternatives;

• pipeline system alternatives;

• pipeline route alternatives; and

• compressor station aboveground facility site alternatives.

With this notice, the Commission requests specific comments regarding any additional potential alternatives to the proposed action or segments of the proposed action. Please focus your comments on reasonable alternatives (including alternative facility sites and pipeline routes) that meet the Project objectives, are technically and economically feasible, and avoid or lessen environmental impact.

Consultation Under Section 106 of the National Historic Preservation Act

In accordance with the Advisory Council on Historic Preservation's implementing regulations for section 106 of the National Historic Preservation Act, the Commission is using this notice to initiate section 106 consultation for the Project with the applicable State Historic Preservation Office(s), and other government agencies, interested Indian tribes, and the public to solicit their views and concerns regarding the Project's potential effects on historic properties.⁶ The Project EIS will document findings on the impacts on historic properties and summarize the status of consultations under section 106.

⁶ The Advisory Council on Historic Preservation's regulations are at Title 36, Code of Federal Regulations, Part 800. Those regulations define historic properties as any prehistoric or historic district, site, building, structure, or object included in or eligible for inclusion in the National Register of Historic Places.

Schedule for Environmental Review

On June 18, 2025, the Commission issued its Notice of Application for the Project. Among other things, that notice alerted other agencies issuing federal authorizations of the requirement to complete all necessary reviews and to reach a final decision on the request for a federal authorization within 90 days of the date of issuance of the Commission staff's final EIS for the Project. This notice identifies the Commission staff's planned schedule for completion of the final EIS for the Project, which is based on an issuance of the draft EIS in April 2026, opening a 45-day comment period.

Issuance of Notice of Availability of the final EIS—September 25, 2026

90-day Federal Authorization Decision Deadline ⁷—December 24, 2026

⁷ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary for the final EIS, an additional notice will be provided so that the relevant agencies are kept informed of the Project's progress.

Permits and Authorizations

The table below lists the anticipated permits and authorizations for the Project required under federal law. This list may not be all-inclusive and does not preclude any permit or authorization if it is not listed here. Agencies with jurisdiction by law and/or special expertise may formally cooperate in the preparation of the Commission's EIS and may adopt the EIS to satisfy its NEPA responsibilities related to this Project. Agencies that would like to request cooperating agency status should follow the instructions for filing comments provided under the Public Participation section of this notice.

Agency | Permit
FERC | Section 3 of the Natural Gas Act.
| Section 7 of the Natural Gas Act.
U.S. Department of Energy | LNG Export Authorization.
U.S. Army Corps of Engineers | Section 404 of the Clean Water Act.
| Section 10 of the Rivers and Harbors Act.
U.S. Fish and Wildlife Service | Section 7 of the Endangered Species Act Consultation.
U.S. Coast Guard | Letter of Intent.
| Ports and Waterways Safety Assessment.
National Oceanic and Atmospheric Administration—National Marine Fisheries Service | Section 7 of the Endangered Species Act Consultation.
| Magnuson-Stevens Fishery Conservation Management Act Consultation.
| Marine Mammal Protection Act Consultation.
Louisiana Department of Environmental Quality | Title V and Prevention of Significant Deterioration of the Clean Air Act.
| Section 401 Water Quality Certification.
Railroad Commission of Texas | Section 401 Water Quality Certification.
Louisiana Department of Natural Resources | Coastal Use Permit.
Louisiana Department of Culture, Recreation, and Tourism | Section 106 of the National Historic Preservation Act.
Texas Historical Commission | Section 106 of the National Historic Preservation Act.
Federal Aviation Administration | Notice of Proposed Construction or Alteration of Navigable Airspace.
U.S. Department of Transportation—Pipeline and Hazardous Materials Safety Administration | Letter of Determination.
U.S. Department of Agriculture (USDA) Natural Resources Conservation Service (NRCS)—Louisiana | Farmland Protection Policy Act.
USDA NRCS—Texas | Farmland Protection Policy Act.

Environmental Mailing List

This notice is being sent to the Commission's current environmental mailing list for the Project which includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project and includes a mailing address with their comments. Commission staff will update the environmental mailing list as the analysis proceeds to ensure that Commission notices related to this environmental review are sent to all individuals, organizations, and government entities interested in and/or potentially affected by the proposed Project. State and local government representatives should notify their constituents of this proposed project and encourage them to comment on their areas of concern.

If you need to make changes to your name/address, or if you would like to remove your name from the mailing list, please complete one of the following steps:

(1) Send an email to GasProjectAddressChange@ferc.gov stating your request. You must include the docket number CP24-75-001, CP25-505-000, and CP25-506-000 in your request. If you are requesting a change to your address, please be sure to include your name and the correct address. If you are requesting to delete your address from the mailing list, please include your name and address as it appeared on this notice. This email address is unable to accept comments.

OR

(2) Return the attached “Mailing List Update Form” (appendix 2).

Additional Information

Additional information about the Project is available from the Commission's Office of External Affairs, at (866) 208-FERC, or on the FERC website at www.ferc.gov using the eLibrary link. Click on the eLibrary link, click on “General Search” and enter the docket number in the “Docket Number” field, excluding the last three digits (i.e., CP25-505). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: August 8, 2025.
Debbie-Anne A. Reese,
Secretary.

[FR Doc. 2025-15362 Filed 8-12-25; 8:45 am]

BILLING CODE 6717-01-P